DEPARTMENT OF AGRICULTURE

Agricultural Marketing Service

7 CFR Part 52

[Document Number AMS-FV-14-0016, FV-16-326]

United States Standards for Grades of Canned Baked Beans

AGENCY: Agricultural Marketing Service, USDA.

ACTION: Final notice.

SUMMARY: This document revises the United States Standards for Grades of Canned Baked Beans. The U.S. Department of Agriculture (USDA), Agricultural Marketing Service (AMS) revised the standards to replace process-specific language “Product Description” in the standard with language reflective of current canned baked bean manufacturing practices. Additionally, AMS separated the canned dried beans, canned pork and beans, and canned baked beans grade standards from one shared standard document into three separate documents. These revisions bring the grade standards for canned baked beans in line with the present quality levels being marketed today and provide guidance in the effective use of these products.

DATES: Effective: June 8, 2016.

FOR FURTHER INFORMATION CONTACT: Brian E. Griffin, Agricultural Marketing Specialist, Specialty Crops Inspection Division, Specialty Crops Program, Agricultural Marketing Service, U.S. Department of Agriculture, 1400 Independence Avenue SW., Room 1536, South Building; STOP 0240, Washington, DC 20250; telephone (202) 720-5021; fax (202) 690-1527; or, email brian.griffin@ams.usda.gov. Copies of the revised U.S. Standards for Grades of Canned Baked Beans are available on the Internet at http://www.regulations.gov or http://www.ams.usda.gov/.

SUPPLEMENTARY INFORMATION: Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. standards for grades of fruits and vegetables that are not connected with Federal marketing orders or U.S. import requirements no longer appear in the Code of Federal Regulations, but are maintained by USDA, AMS, Specialty Crops Program, and are available on the Internet at: http://www.ams.usda.gov/.

AMS revised the voluntary U.S. Standards for Grades of Canned Baked Beans using the procedures that appear in part 36 of Title 7 of the Code of Federal Regulations (7 CFR part 36).

Background

In September 2013, AMS received a petition from a professor emeritus in food science at Michigan State University asking the Agency to consider revising the current U.S. grade standards for canned baked beans to account for advances in industry processing technology. The petitioner requested the removal of the following text from the Product Description: “The product is prepared by washing, soaking, and baking by the application of dry heat in open or loosely covered containers in a closed oven at atmospheric pressure for sufficient prolonged time to produce a typical texture and flavor” and replacing it with: “The product is prepared by heating beans and sauce in a closed or open container for a period of time sufficient to provide texture, flavor, color, and consistency attributes that are typical for this product.”

Additional proposed changes to the U.S. Standards for Grades of Canned Baked Beans included separating the shared standard for canned dried beans, canned pork and beans, and canned baked beans into three individual standard documents and make minor editorial changes. These grade standards are recognized as three individual standards, but are contained in one document.

AMS published a proposed notice in the Federal Register on August 19, 2015 (80 FR 50262) with a 60-day public comment period. AMS received one comment in favor of the proposed changes to the canned baked bean standards.

This notice announces revisions to the third issuance of the U.S. Standards for Grades of Canned Baked Beans, which became effective on September 1, 1976, as follows:

Product Description. The text for § 52.6461 Product Description is revised to be: “The product is prepared by washing, soaking, and baking beans and sauce through the application of heat in a closed or open container for a period of time sufficient to provide texture, flavor, color, and consistency attributes that are typical for this product.”

Additionally, the U.S. Standards for Grades of Canned Dried Beans, Canned Pork and Beans, and Canned Baked Beans are separated into individual documents for the canned dried beans grade standards, canned pork and beans grade standards, and canned baked beans grade standards. There are no changes to the content of the canned dried beans or canned pork and beans grade standards.

The official grade of a lot of canned baked beans covered by these standards will be determined by the procedures set forth in the Regulations Governing Inspection and Certification of Processed Products, Thereof, and Certain Other Processed Food Products (7 CFR 52.1 to 52.83).

The revisions to the canned baked bean grade standard in this notice provide a common language for trade and better reflect the current marketing of canned baked beans. The changes are effective June 8, 2016.

Authority: 7 U.S.C. 1621-1627.

Dated: May 3, 2016.
Elanor Starmer,
Acting Administrator, Agricultural Marketing Service.

[FR Doc. 2016-10743 Filed 5-6-16; 8:45 am]

BILLING CODE 3410-02-P